DEPARTMENT OF TRANSPORTATION

Office of the Secretary

[Docket No. OST 2005-21776]

Notice of Request for Renewal of a Previously Approved Collection.

AGENCY: Office of the Secretary.

ACTION: Notice.

SUMMARY: In accordance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register notice with a 60-day comment period soliciting comments on the following collection of information was published on April 27, 2005 (FR Vol. 70, No. 80, page 21835). No comments were received.

DATES: Comments on this notice must be received by August 8, 2005, attention DOT/OST Desk Officer, Office of Information and Regulatory Affairs, Office of Management and Budget, Docket Library, Room 10102, 725 17th Street, NW., Washington, DC 20503.

FOR FURTHER INFORMATION CONTACT: Bernice C. Gray or John H. Kiser, Office of the Secretary, Office of International Aviation, X-43, Department of Transportation, 400 Seventh Street, SW., Washington, DC 20590, (202) 366-2435.

SUPPLEMENTARY INFORMATION:

Title: Tariffs.

OMB Number: 2106-0009.

Affected Public: The majority of the air carriers filing international tariffs are large operators with revenues in excess of several million dollars each year. Small air carriers operating aircraft with 60 seats or less and 18,000 pounds payload or less that off on-demand air-taxi service are not required to file such tariffs.

Annual Estimated Burden: 650,000 hours.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC, on June 30, 2005.
Michael Robinson,
Information Technology Program Management, United States Department of Transportation.

[FR Doc. 05-13418 Filed 7-7-05; 8:45 am]

BILLING CODE 4910-62-P